DEPARTMENT OF THE INTERIOR

National Park Service

National Register of Historic Places; Notification of Pending Nominations

Nominations for the following properties being considered for listing in the National Register were received by the National Park Service before March 1, 2003. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by March 31, 2003.

Carol D. Shull,
Keeper of the National Register of Historic Places.

Alaska

Lake and Peninsula Borough-Census Area

Kukak Cannery Archeological Historic District, Katmai National Park and Preserve, Kukak Bay, 03000192.

Arkansas

Cross County

Memphis to Little Rock Road—Village Creek Segment, (Cherokee Trail of Tears MPS), E of Lake Austell within Village Creek State Park, Newcastle, 03000193.

St. Francis County

Blackfish Lake Ferry Site, (Cherokee Trail of Tears MPS), Address Restricted, New Shady Grove, 03000195.

Colorado

Montrose County

Sherman and Ross Block Building, 232-236 Main St., Montrose, 03000196.

Connecticut

Tolland County

Mansfield Hollow Dam, 141 Mansfield Hollow Rd., Mansfield Hollow Dam, Mansfield Center, 03000194.

Georgia

Forsyth County

Fowler Family Farm, 3813 Atlanta Highway, Cumming, 03000200.

Fulton County

Oakland City Historic District, Bounded by Donnelly St., Lee St., Campbellton Rd., and Ingram Rd., Cascade Ave., Westmont Rd., and Epworth Rd., Atlanta, 03000198.

Tattnall County

Glennwanis Hotel, 209-215 E. Barnard St., Glennville, 03000199.

Ware County

First African Baptist Church and Parsonage, 615 Knight St. and 407 Satilla Blvd., Waycross, 03000197.

Iowa

Mahaska County

Rose Hill Methodist Episcopal Church, 304 Main St., Rose Hill, 03000201.

Louisiana

Orleans Parish

Dillard University, 2601 Gentilly Blvd., New Orleans, 03000202.

Maine

Knox County

Rockland Breakwater, S of Jameson Point, Rockland, 03000203.

Missouri

Franklin County

St. Albans General Store, 3516 St. Albans Rd., St. Albans, 03000204.

North Carolina

Vance County

Glebe House, (Archeological Sites within the John H. Kerr Reservoir Area), Address Restricted, Harris Crossroads, 03000226.

South Carolina

Greenville County

Aiken, Hugh, House, 1 Parkside Dr., Greenville, 03000207.

Spartanburg County

Alexander House, 319 E. Main St., Spartanburg, 03000205.

Union County

Union Downtown Historic District (Boundary Increase), 125-129 W. Main St., Union, 03000206.

Virginia

Accomack County

Bunting Place, 31181 Drummondtown Rd., Wachapreague, 03000210.

Arlington County

Arlington Village Historic District, S 13th St., S 13 Rd., S 16th St., S Barton S., S. Cleveland St. and Edgewood St., Arlington, 03000215.

Dinwiddie County

Butterwood Methodist Church and Butterwood Cemetery, VA 40, Blackstone, 03000213.

Stony Creek Plantation, VA 624, De Witt, 03000212.

Gloucester County

Cappahosic House, 3198 Cappahosic Rd., Gloucester, 03000211.

Lynchburg Independent City Rivermont Historic District, Rivermont Ave, Lynchburg (Independent City), 03000224.

Mecklenburg County

Cedar Grove, (Archeological Sites within the John H. Kerr Reservoir Area), Address Restricted, Clarksville, 03000217.

Garrett Woods—Complex #1, (Archeological Sites within the John H. Kerr Reservoir Area), Address Restricted, Clarksville, 03000218.

Garrett Woods—Complex #2, (Archeological Sites within the John H. Kerr Reservoir Area), Address Restricted, Clarksville, 03000219.

Garrett Woods—Complex #3, (Archeological Sites within the John H. Kerr Reservoir Area), Address Restricted, Clarksville, 03000220.

Ivy Hill Plantation—Samuel Tarry Plantation, (Archeological Sites within the John H. Kerr Reservoir Area), Address Restricted, Clarksville, 03000222.

Newman Point, (Archeological Sites within the John H. Kerr Reservoir Area), Address Restricted, Boydton, 03000221.

Occoneechee Plantation, (Archeological Sites within the John H. Kerr Reservoir Area), Address Restricted, Clarkesville, 03000223.

Rudd Branch Ridge—Complexes #3 and #4, (Archeological Sites within the John H. Kerr Reservoir Area), Address Restricted, Boydton, 03000216.

Powhatan County

Mosby Tavern, 2625 Old Tavern Rd., Powhatan, 03000214.

Prince George County

Chester Plantation, 8401 Golf Course Dr., Disputanta, 03000208.

Warren County

Front Royal Historic District, Irregular district around E and W Main St., and S Royal Ave., Front Royal, 03000209.

Wisconsin

Waukesha County

Saylesville Historic District, Saylesville Rd. From Genesee Creek to Point Dr., Genesee, 03000225.

[FR Doc. 03-6201 Filed 3-13-03; 8:45 am]

BILLING CODE 4310-70-P